SMALL BUSINESS ADMINISTRATION

[Disaster Declaration #10439]

Oregon Disaster Number OR-00012.

AGENCY: Small Business Administration.

ACTION: Amendment 1.

SUMMARY: This is an amendment of the Presidential declaration of a major disaster for Public Assistance Only for the State of Oregon (FEMA-1632-DR), dated 3/20/2006.

Incident: Severe storms, flooding, landslides, and mudslides.

Incident Period: 12/18/2005 through 1/21/2006.

Effective Date: 4/20/2006.

Physical Loan Application Deadline Date: 5/19/2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Oregon, dated 3/20/2006, is hereby amended to include the following areas as adversely affected by the disaster.

Primary Counties: Yamhill.

All other information in the original declaration remains unchanged.

(Catalog of Federal Domestic Assistance Number 59008)

Herbert L. Mitchell,
Associate Administrator for Disaster Assistance.

[FR Doc. E6-6646 Filed 5-2-06; 8:45 am]

BILLING CODE 8025-01-P